DEPARTMENT OF EDUCATION

List of Federal Education Assistance for Proprietary Institutions of Higher Education To Include as Federal Revenue

AGENCY: Office of Postsecondary Education, Department of Education.

ACTION: Notice.

SUMMARY: This notice lists the Federal education assistance funds for qualifying students that proprietary institutions of higher education must include as Federal revenue in their non-Federal revenue calculation (known as “90/10”).

DATES: Institutions must include these Federal education funds in their 90/10 calculations for fiscal years beginning on or after January 1, 2023.

FOR FURTHER INFORMATION CONTACT: Ashley Clark, U.S. Department of Education, 400 Maryland Avenue SW, Room 2C185, Washington, DC 20202. Telephone: (202) 453-7977. Email: Ashley.Clark@ed.gov.

If you are deaf, hard of hearing, or have a speech disability and wish to access telecommunications relay services, please dial 7-1-1.

SUPPLEMENTARY INFORMATION: Background: On October 28, 2022, the Department published final regulations amending 34 CFR 668.28, “Non-Federal Education Assistance Funds (90/10).” ¹ The final regulations implemented amendments to sections 487(a) and (d) of the Higher Education Act of 1965, as amended (HEA), made by the American Rescue Plan Act of 2021 (ARP).² Sections 487(a) and (d) govern how proprietary institutions of higher education (“institutions”) must calculate their non-Federal revenue percentage (e.g., the 90/10 calculation).³ Per section 487(a) of the HEA, institutions must derive not less than 10 percent of their revenue from sources other than Federal education assistance funds that are disbursed or delivered to or on behalf of a student to attend the institution. The statutory change requires that institutions count all Federal education assistance funds as Federal revenue in their 90/10 calculation for fiscal years beginning on or after January 1, 2023. Regulations at 34 CFR 668.28 identify the types of funds that institutions must treat as Federal and non-Federal revenue. 34 CFR 668.28(a)(1)(i) provides that the Secretary will identify Federal education assistance funds, by agency, to assist proprietary institutions in complying with the 90/10 requirement. The Department is publishing this notice in the Federal Register in accordance with § 668.28(a)(1)(i), and we will publish updates to this list for subsequent fiscal years as needed.

¹ 87 FR 65426.

² Public Law 117-2.

³ Public Law 110-315, as amended.

List of Federal education assistance funds: The Department surveyed Federal agencies to compile this list of Federal education assistance funds. In accordance with the definition of Federal education assistance funds in § 668.28, this list includes Federal funds that may be disbursed directly to an institution; disbursed to a student for purposes of paying tuition, fees, or other institutional charges; or comingled with non-Federal funds in a disbursement made by a non-Federal public agency, regardless of whether proprietary institutions are currently eligible. Information obtained by the Department indicated that most education assistance funds are disbursed directly to an institution for specific students, and, therefore, the institution should be aware of and able to account for these funds. For the programs that disburse Federal funds directly to students, institutions are expected to determine if any students making payments to the institution are receiving Federal education funds from the listed sources and use that information to accurately calculate the percentage of their revenue derived from non-Federal sources.⁴

⁴ See 87 FR at 65446 (“For purposes of 90/10, we understand that proprietary institutions need a basis to calculate the Federal funds disbursed directly to its students. The Department considers a certification from an agency describing the Federal funds that a student received as a sufficient basis for this calculation. In cases where an agency does not provide this information to an institution, we will evaluate on a case-by-case basis whether the institution made a good-faith effort to obtain this information, including if a student certifies that they received Federal funds and the amount of funds received.”). See also 87 FR at 65451-52 (“Although institutions must exclude funds for which they cannot determine the breakdown, we expect institutions to attempt to determine the Federal and non-Federal breakdown of grant funds. The Department would evaluate whether the institution sufficiently attempted to determine the Federal and non-Federal components of grant funds on a case-by-case basis . . . when the institution is unable to obtain this breakdown.”)

The statute requires institutions to include all Federal education assistance funds in their 90/10 calculation. If an institution is aware of Federal education assistance funds not included on this list that were provided either to the institution or directly to a student to cover tuition and fees or other institutional charges, the institution must obtain the necessary information to account for those funds in its 90/10 revenue calculation. If Federal education assistance funds are comingled with other types of aid and the institution cannot determine what portion of the funds are from a Federal entity, the funds should not be included in either the numerator or denominator of the revenue calculation. Institutions should document for their records how they determine whether students are receiving federal education assistance from these programs.

Note that the following list of sources of Federal education funds is in addition to title IV, HEA program funds, which existing regulations already require institutions to include in the 90/10 calculation.

Department of Agriculture:

• National Institute of Food and Agriculture (NIFA): Agriculture and Food Research Initiative Predoctoral Fellowships

Department of Commerce:

• Hollings Scholarship Program

• National Oceanic and Atmospheric Administration (NOAA) Educational Partnership Program with Minority Serving Institutions, Cooperative Science Centers Direct Student Support

• NOAA Educational Partnership Program with Minority Serving Institutions, Graduate Fellowship Program

• NOAA Educational Partnership Program with Minority Serving Institutions, Undergraduate Scholarship Program

Department of Defense:

• Advanced Civil Schooling

• Army/Navy/Air Force Health Professions Scholarship Program

• Civilian Career Program/Civilian Tuition Assistance

• Credentialing Assistance

• Military Spouse Career Advancement Account (MyCAA)

• Military Tuition Assistance

• Navy Advanced Education Voucher Program

• Navy Graduate Education Voucher

• Navy Seaman to Admiral

• Reserve Officers' Training Corps (ROTC) Scholarships

Department of Education:

• Leadership Consortia in Sensory Disabilities and Disabilities Associated with Intensive Service Needs

• Perkins V (including the Native American Career and Technical Education Program and the Native Hawaiian Career and Technical Education Program)

• Personnel Preparation in Special Education, Early Intervention, and Related Services for Personnel Serving Children with Disabilities

• Preparation of Special Education, Early Intervention, and Related Services Leadership Personnel

• Statewide Models for Ensuring That Special Education Students in Inclusive Schools are Served by Highly Qualified Teachers

• Workforce Investment Opportunity Act (WIOA) Title II (Adult Education and Family Literacy Act)

Department of Health and Human Services:

• Addiction Medicine Fellowship Program (AMF)

• Advanced Nursing Education; Nurse Practitioner Residency Integration Program (ANE-NPRIP)

• Advanced Nursing Education; Nurse Practitioner Residency Program (ANE-NPR)

• Advanced Nursing Education Workforce (ANEW)

• Behavioral Health Workforce Education and Training Program for Paraprofessionals (BHWET)

• Behavioral Health Workforce Education and Training Program for Professionals (BHWET)

• Chafee Education and Training Vouchers

• Children's Hospitals Graduate Medical Education Program (CHGME)

• Dental Faculty Loan Repayment Program (DFLRP)

• Geriatric Workforce Enhancement Program (GWEP)

• Graduate Psychology Education Program (GPE)

• Health Careers Opportunity Program (HCOP)

• Indian Health Professions (IHS) Section 103 Scholarships

• IHS Section 104 Scholarships

• Indian Health Service

• Indians Into Medicine

• Integrated Substance Use Disorder Training Program (ISTP)

• Medical Student Education (MSE)

• Native Hawaiian Health Scholarship Program (NHHSP)

• National Health Service Corps Scholarship Program (NHSC SP)

• Non-National Research Service Award Predoctoral Fellowships

• Nurse Anesthetist Traineeship (NAT)

• Nurse Corps Scholarship Program

• Nurse Education, Practice, Quality and Retention; Registered Nurses in Primary Care (NEPQR-RNPC)

• Nurse Education, Practice, Quality and Retention; Veteran Nurses in Primary Care Training Program (VNPC)

• Nursing Workforce Diversity (NWD)

• Nursing Workforce Diversity; Eldercare Enhancement (NWD-E2)

• Oral Health Training: Predoctoral Training in General, Pediatric and Public Health Dentistry

• Primary Care Training and Enhancement; Physician Assistant Rural Training Program (PCTE-PAT)

• Public Health Training Centers (PHTC)

• Non-National Research Service Award Training Grants

• Opioid-Impacted Family Support Program (OIFSP)

• Preventative Medicine Residency Program (PMR)

• Public Health Scholarship Program (PHSP)

• Scholarships for Disadvantaged Students (SDS)

• Ruth L. Kirschstein National Research Service Award Institutional Research Training Grants

• Ruth L. Kirschstein National Research Service Award Predoctoral Fellowships

• Temporary Assistance to Needy Families

Department of Labor:

• H-1B Skills Training Grants

• Reentry Employment Opportunities

• Strengthening Community Colleges

• Trade Adjustment Assistance

• WIOA Title I (Adult, Dislocated Worker, and Youth)

• YouthBuild

Department of Transportation:

• Federal Highway Administration; Dwight David Eisenhower Transportation Fellowship Program (DDETFP)

• Maritime Administration; Direct Payments State Maritime Academies (SMA)

• Maritime Administration; Student Incentive Program

• Maritime Administration; United States Merchant Marine Academy

Department of Veterans Affairs:

• All-Volunteer Force Educational Assistance (also known as Montgomery GI Bill; Active Duty)

• Marine Gunnery Sergeant John David Fry Scholarship

• Montgomery GI Bill Selected Reserve; Reserve Educational Assistance Program

• National Call to Service Program

• Post-9/11 Veterans Educational Assistance (also known as Post-9/11 GI Bill)

• Post-Vietnam Era Veterans' Educational Assistance Program

• Survivors and Dependents Educational Assistance

• Veteran Employment Through Technology Education Courses (VET TEC)

• Veteran Rapid Retraining Assistance Program

• Veteran Readiness and Employment (formerly Vocational Rehabilitation)

Nuclear Regulatory Commission:

• University Nuclear Leadership Program

Accessible Format: On request to the person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Nasser H. Paydar,
Assistant Secretary, Office of Postsecondary Education.

[FR Doc. 2022-27732 Filed 12-20-22; 8:45 am]

BILLING CODE 4000-01-P